DEPARTMENT OF HEALTH AND HUMAN SERVICES

Centers for Disease Control and Prevention

[30Day-10-0488]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Restrictions on Interstate Travel of Persons (OMB Control No. 0920-0488)—Extension—National Center for Preparedness, Detection, and Control of Infectious Diseases (NCPDCID), Centers for Disease Control and Prevention (CDC).

Background and Brief Description

The Centers for Disease Control and Prevention is requesting OMB approval to extend the information collection request, Restrictions on Interstate Travel of Persons (OMB Control No. 0920-0488). This information collection request is scheduled to expire on February 28, 2010.

CDC is authorized to collect this information under 42 CFR 70.5 (Certain communicable diseases; special requirements). This regulation requires that any person who is in the communicable period for cholera, plague, smallpox, typhus, or yellow fever or having been exposed to any such disease is in the incubation period thereof, to apply for and receive a permit from the Surgeon General or his authorized representative in order to travel from one State or possession to another.

Control of disease transmission within the States is considered to be the province of State and local health authorities, with Federal assistance being sought by those authorities on a cooperative basis without application of Federal regulations. The regulations in 42 Part 70 were developed to facilitate Federal action in the event of large outbreaks requiring a coordinated effort involving several states, or in the event of inadequate local control. While it is not known whether, or to what extent situations may arise in which these regulations would be invoked, contingency planning for domestic emergency preparedness is now commonplace. Should these situations arise, CDC will use the reporting and recordkeeping requirements contained in the regulations to carry out quarantine responsibilities as required by law.

The only cost to respondents is their time to submit the application materials. The estimated annualized burden for this data collection is 3,601 hours.

Estimated Annualized Burden Hours
Regulation | Respondent | Number of respondents | Number of responses per respondent | Average burden per response (in hours)
42 CFR 70.3 Application to the State of Destination for a permit | Traveler Attending physician | 2,000 2,000 | 1 1 | 15/60 15/60
42 CFR 70.3 Copy of material submitted by applicant and permit issued by State health authority | State health authority | 8 | 250 | 6/60
42 CFR 70.4 Report by the master of a vessel or person in charge of conveyance of the incidence of a communicable disease occurring while in interstate travel | Master of a vessel or person in charge of conveyance | 1,500 | 1 | 15/60
42 CFR 70.4 Copy of material submitted or state or local health authority under this provision | State health authority | 20 | 75 | 6/60
42 CFR 70.5 Application for a permit to move from State to State while in the communicable period | Traveler Attending physician | 3,750 3,750 | 1 1 | 15/60 15/60

Dated: February 4, 2010.
Maryam I. Daneshvar,
Acting Reports Clearance Officer, Centers for Disease Control and Prevention.

[FR Doc. 2010-2917 Filed 2-9-10; 8:45 am]

BILLING CODE 4163-18-P